DEPARTMENT OF THE INTERIOR

National Park Service

[NPS-WASO-NAGPRA-NPS0039565; PPWOCRADN0-PCU00RP14.R50000]

Notice of Intended Repatriation: John James Audubon State Park of Kentucky State Parks, Henderson, KY

AGENCY: National Park Service, Interior.

ACTION: Notice.

SUMMARY: In accordance with the Native American Graves Protection and Repatriation Act (NAGPRA), the John James Audubon State Park intends to repatriate a certain cultural item that meets the definition of an object of cultural patrimony and that has a cultural affiliation with the Indian Tribes or Native Hawaiian organizations in this notice.

DATES: Repatriation of the cultural item in this notice may occur on or after April 18, 2025.

ADDRESSES: Connor Humphrey, John James Audubon State Park, 3100 US Highway 41 North, Henderson, KY 42420, telephone (502) 782-9716, email connor.humphrey@ky.gov.

SUPPLEMENTARY INFORMATION: This notice is published as part of the National Park Service's administrative responsibilities under NAGPRA. The determinations in this notice are the sole responsibility of the John James Audubon State Park, and additional information on the determinations in this notice, including the results of consultation, can be found in the summary or related records. The National Park Service is not responsible for the determinations in this notice.

Abstract of Information Available

A total of one cultural item has been requested for repatriation by the Blackfeet Tribe of the Blackfeet Indian Reservation of Montana. The one object of cultural patrimony is a Blackfeet Hairlock Shirt. It was given to the artist and naturalist John James Audubon by James Kipp of the American Fur Trade Company at Fort Union near Williston, North Dakota. The Hairlock Shirt was passed down in Audubon's family and came to John James Audubon State Park in 1938. The Commonwealth of Kentucky purchased the shirt from Audubon's descendants in 1994. The shirt is Blackfeet as it bears the Blackfeet symbol on both the obverse and reverse of the shirt in addition to Audubon's documentation of receiving the shirt in his journal. No hazardous materials were used to treat the shirt that are known.

Determinations

The John James Audubon State Park has determined that:

• The one object of cultural patrimony described in this notice has ongoing historical, traditional, or cultural importance central to the Blackfeet Tribe of the Blackfeet Indian Reservation of Montana based on the tribe's Native American traditional knowledge. There is a strong connection between the cultural items described in this notice and the Blackfeet Tribe of the Blackfeet Indian Reservation of Montana.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after April 18, 2025. If competing requests for repatriation are received, the John James Audubon State Park must determine the most appropriate requestor prior to repatriation. Requests for joint repatriation of the cultural item are considered a single request and not competing requests. The John James Audubon State Park is responsible for sending a copy of this notice to the Indian Tribes and Native Hawaiian organizations identified in this notice and to any other consulting parties.

Authority: Native American Graves Protection and Repatriation Act, 25 U.S.C. 3004 and the implementing regulations, 43 CFR 10.9.

Dated: February 19, 2025.
Melanie O'Brien,
Manager, National NAGPRA Program.

[FR Doc. 2025-04613 Filed 3-18-25; 8:45 am]

BILLING CODE 4312-52-P